DEPARTMENT OF TRANSPORTATION

Federal Aviation Administration

14 CFR Part 39

[Docket No. FAA-2005-22483; Directorate Identifier 2004-NM-236-AD; Amendment 39-14292; AD 2005-19-27]

RIN 2120-AA64

Airworthiness Directives; Airbus Model A330-200 Series Airplanes

AGENCY: Federal Aviation Administration (FAA), Department of Transportation (DOT).

ACTION: Final rule; request for comments.

SUMMARY: The FAA is adopting a new airworthiness directive (AD) for certain Airbus Model A330-200 series airplanes. This AD requires inspecting to determine the serial numbers and flight cycles of the fuel jettison valves and removing certain valves as applicable. This AD also requires doing a one-time inspection for cracks of the remaining jettison valves and removing any cracked valves. This AD also requires modifying the diameters of the six attachment holes in the wing bottom skin panel before installing a new or serviceable jettison valve. This AD results from reports of fuel leaks in the fuel jettison system located on the wings. We are issuing this AD to prevent fuel leaks from the fuel jettison outlets, which could result in fuel vapors coming into contact with ignition sources, and consequent fire or explosion.

DATES: Effective October 12, 2005.

The Director of the Federal Register approved the incorporation by reference of a certain publication listed in the AD as of October 12, 2005.

We must receive comments on this AD by November 28, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

The Direction Générale de l'Aviation Civile (DGAC), which is the airworthiness authority for France, notified us that an unsafe condition may exist on certain Airbus Model A330-200 series airplanes. The DGAC advises that there have been several reported cases of fuel leaks in the fuel jettison system located on the wings. These leaks were observed during refueling and during maintenance. Inspection of the system revealed the presence of cracks and, in certain cases, breaks at the jettison valve. The inspection also revealed several partial disconnects of the valve inlet and/or outlet pipe. Analysis of the inspection data showed that the use of maximum tolerances in production when attaching the jettison valve to the wingbox bottom skin can cause cracks due to static overloading. These cracks can grow under the effect of fuel pressure loads during refueling operations and cause the valve to rupture. A ruptured valve could cause the fuel pipes to disconnect from the jettison valve and consequent fuel leaks from the fuel jettison outlets, which could result in fuel vapors coming into contact with ignition sources, and consequent fire or explosion.

Relevant Service Information

Airbus has issued Service Bulletin A330-57-3078, Revision 01, dated August 4, 2004. The service bulletin specifies that operators should discard any fuel jettison valve with certain serial numbers, or that has accumulated more than 5,200 flight cycles since it was first installed. The service bulletin describes procedures for doing a visual inspection for cracks of the external surfaces of the mounting flange of any remaining jettison valve, and an eddy current inspection for cracks if the visual inspection shows no cracks. If any crack is detected in the mounting flange during either inspection, the service bulletin specifies that the jettison valve should be removed and discarded. If no crack is detected after the eddy current inspection, the service bulletin specifies that the jettison valve may be re-installed. The service bulletin also describes procedures for modifying the diameters of the six attachment holes in the wing bottom skin panel before installing the same, uncracked, jettison valve after the inspections, or before installing a new jettison valve after the previous jettison valve has been discarded. The service bulletin also describes procedures for an operational test of the fuel jettison system to ensure that there are no fuel leaks. This test is done during the installation of the jettison valve.

Accomplishing the actions specified in the service information is intended to adequately address the unsafe condition. The DGAC mandated the service information and issued French airworthiness directive F-2004-127, dated August 4, 2004, to ensure the continued airworthiness of these airplanes in France.

The service bulletin refers to FR-HiTemp Service Bulletin HTE900169-28-1, Revision 1, dated November 8, 2004, as an additional source of service information for doing a visual inspection of the mounting flange of the jettison valve.

FAA's Determination and Requirements of This AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent fuel leaks from the fuel jettison outlets. This AD requires accomplishing the actions specified in the service information described previously.

Clarification of Inspection Language

Although the French airworthiness directive specifies that operators “inspect visually” for cracks of the external surfaces of the mounting flange, this AD refers to that inspection a “detailed inspection.” We have included the definition for a detailed inspection in a note in the AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Inspection to determine serial number | 1 | $65 | None | $65
Modification | 13 | 65 | No Charge | 845

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-22483; Directorate Identifier 2004-NM-236-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-19-27 Airbus: Amendment 39-14292. Docket No. FAA-2005-22483; Directorate Identifier 2004-NM-236-AD.

Effective Date

(a) This AD becomes effective October 12, 2005.

Affected ADs

(b) None.

Applicability

(c) This AD applies to Airbus Model A330-201, -202, -203, -223, and -243 airplanes, certificated in any category; equipped with fuel jettison valve part number (P/N) HTE900169.

Unsafe Condition

(d) This AD results from reports of fuel leaks in the fuel jettison system located on the wings. We are issuing this AD to prevent fuel leaks from the fuel jettison outlets, which could result in fuel vapors coming into contact with ignition sources, and consequent fire or explosion.

Compliance

(e) You are responsible for having the actions required by this AD performed within the compliance times specified, unless the actions have already been done.

Service Bulletin Reference

(f) For the purposes of this AD the term “service bulletin” means the Accomplishment Instructions of Airbus Service Bulletin A330-57-3078, Revision 01, dated August 4, 2004.

Note 1: The service bulletin refers to FR-HiTemp Service Bulletin HTE900169-28-1, Revision 1, dated November 8, 2004, as an additional source of service information for doing a visual inspection of the mounting flange of the jettison valve.

Inspection to Determine Serial Number and Flight Cycles

(g) Within 40 months after the effective date of this AD, do the actions in paragraphs (g)(1) and (g)(2) of this AD in accordance with the service bulletin.

(1) Inspect the fuel jettison valves, P/N HTE900169, to determine whether any of the following serial numbers are installed: FR092BC to FR099BC inclusive, FR001BD to FR030BD inclusive, FR031BE to FR058BE inclusive, and M151VB292. A review of airplane maintenance records is acceptable in lieu of this inspection if information can be conclusively determined from that review. If any affected serial number is installed: Before further flight, remove the jettison valve and do the modification in paragraph (i) of this AD.

(2) Review airplane records to determine the number of flight cycles accumulated on the fuel jettison valves since first installation on the airplane. If any jettison valve has accumulated 5,200 total flight cycles or more, or if the number of flight cycles cannot be determined: Before further flight, remove the jettison valve and do the modification in paragraph (i) of this AD.

Detailed and Eddy Current Inspections for Cracks of the Mounting Flange

(h) Within 40 months after the effective date of this AD, for any jettison valve that was not removed in accordance with paragraph (g) of this AD, do a detailed inspection for cracks of the mounting flange of the jettison valve in accordance with the service bulletin.

(1) If no crack is found during the detailed inspection: Before further flight, do an eddy current inspection for cracks of the mounting flange of the jettison valve in accordance with the service bulletin and, whether a crack is found or not, before further flight, do the modification required by paragraph (i) of this AD. If no crack is found during the eddy current inspection, the inspected jettison valve may be reinstalled during the modification required by paragraph (i) of this AD.

(2) If any crack is found during the detailed inspection: Before further flight, do the modification in paragraph (i) of this AD and do not reinstall the jettison valve.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Modification

(i) At the applicable time specified in paragraph (g) or (h) of this AD: Modify the diameters of the six attachment holes in the wing bottom skin panel, and install a new fuel jettison valve, or reinstall a previously installed fuel jettison valve that has been inspected and found to have no crack in accordance with paragraph (h) of this AD. Do all actions in accordance with the service bulletin.

Parts Installation

(j) As of the effective date of this AD, no person may install, on any airplane, a fuel jettison valve, P/N HTE900169, unless it has been inspected and had corrective actions done in accordance with paragraphs (g) and (h) of this AD.

Alternative Methods of Compliance (AMOCs)

(k)(1) The Manager, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) French airworthiness directive F-2004-127, dated August 4, 2004, also addresses the subject of this AD.

Material Incorporated by Reference

(m) You must use Airbus Service Bulletin A330-57-3078, Revision 01, dated August 4, 2004, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 15, 2005.
Ali Bahrami,
Manager, Transport Airplane Directorate, Aircraft Certification Service.

[FR Doc. 05-18910 Filed 9-26-05; 8:45 am]

BILLING CODE 4910-13-P